DEPARTMENT OF COMMERCE

Bureau of the Census

Request for Nominations of Members To Serve on the Federal Economic Statistics Advisory Committee

AGENCY: Bureau of the Census, Commerce.

ACTION: Notice of request for nominations.

SUMMARY: The Secretary of Commerce is requesting nominations of individuals to the Federal Economic Statistics Advisory Committee. The Secretary will consider nominations received in response to this notice, as well as from other sources. The SUPPLEMENTARY INFORMATION section of this notice provides committee and membership criteria.

DATES: Please submit nominations by August 15, 2016.

ADDRESSES: Please submit nominations by Email to james.r.spletzer@census.gov (subject line “2016 FESAC Nominations”), or by letter submission to James R. Spletzer, Designated Federal Official, 2016 FESAC Nominations, Department of Commerce, U.S. Census Bureau, Room 5K175, 4600 Silver Hill Road, Washington, DC 20233. Nominations also maybe submitted via fax at 301-763-8609.

FOR FURTHER INFORMATION CONTACT: James R. Spletzer, Designated Federal Official, Department of Commerce, U.S. Census Bureau, Research and Methodology Directorate, Room 5K175, 4600 Silver Hill Road, Washington, DC 20233, telephone 301-763-4069, email: james.r.spletzer@census.gov. For TTY callers, please use the Federal Relay Service 1-800-877-8339.

SUPPLEMENTARY INFORMATION: The Federal Economic Statistics Advisory Committee (the “Committee”) was established in accordance with the Federal Advisory Committee Act (Title 5, United States Code, Appendix 2). The following provides information about the Committee, membership, and the nomination process.

Objectives and Duties

1. The Committee is administratively housed at the Economics and Statistics Administration (ESA), U.S. Department of Commerce. The Committee advises the Directors of ESA's two statistical agencies, the Bureau of Economic Analysis (BEA) and the U.S. Census Bureau (Census), and the Commissioner of the Department of Labor's Bureau of Labor Statistics (BLS) (collectively called “the agencies”) on statistical methodology and other technical matters related to the collection, tabulation, and analysis of federal economic statistics.

2. The Committee functions solely as an advisory committee to the senior officials of BEA, Census, and BLS in consultation with the Committee chairperson.

3. Important aspects of the Committee's responsibilities include, but are not limited to:

a. Recommending research to address important technical problems arising in federal economic statistics.

b. Identifying areas in which better coordination of the agencies activities would be beneficial.

c. Establishing relationships with professional associations with an interest in federal economic statistics.

d. Coordinating (in its identification of agenda items) with other existing academic advisory committees chartered to provide agency-specific advice for the purpose of avoiding duplication of effort.

4. The Committee reports to the Under Secretary for Economic Affairs who, as head of ESA, coordinates and collaborates with the agencies.

Membership

1. The Committee consists of approximately fourteen members who serve at the pleasure of the Secretary of Commerce.

2. Members are nominated by the Department of Commerce, in consultation with the agencies, under the coordination of the Under Secretary for Economic Affairs, and are appointed by the Secretary.

3. Committee members are economists, statisticians, survey methodologists, and behavioral scientists, and are chosen to achieve a balanced membership across those disciplines.

4. Members shall be prominent experts in their fields, and recognized for their scientific and professional achievements and objectivity.

a. Members serve as Special Government Employees (SGEs) and are subject to ethics rules applicable to SGEs.

b. Members serve three-year terms. Members may be reappointed to any number of additional three-year terms.

c. Should a Committee member be unable to complete a three-year term, a new member may be selected to complete that term for the duration of the time remaining or begin a new term of three years.

d. The agencies, by consensus agreement, shall appoint the chairperson annually from the Committee membership. Chairpersons shall be permitted to succeed themselves.

Miscellaneous

1. Members of the Committee will not be compensated for their services, but will be reimbursed for travel expenses upon request.

2. The Committee meets approximately twice a year, budget permitting. Special meetings may be called when appropriate.

Nomination Process

1. Nominations are requested as described above.

2. Nominees must be economists, statisticians, survey methodologists, and behavioral scientists and will be chosen to achieve a balanced membership across those disciplines. Nominees must be prominent experts in their fields, and recognized for their scientific and professional achievements and objectivity. Such knowledge and expertise are needed to advise the agencies on statistical methodology and other technical matters related to the collection, tabulation, and analysis of federal economic statistics.

3. Individuals, groups, and/or organizations may submit nominations on behalf of an individual candidate. A summary of the candidate's qualifications (resumé or curriculum vitae) must be included along with the nomination letter. Nominees must be able to actively participate in the tasks of the Committee including, but not limited to, regular meeting attendance, committee meeting discussant responsibilities, review of materials, as well as participation in conference calls, webinars, working groups, and special committee activities.

4. The Department of Commerce is committed to equal opportunity in the workplace and seeks diverse Committee membership.

Dated: July 8, 2016.
John H. Thompson,
Director, Bureau of the Census.

[FR Doc. 2016-16758 Filed 7-14-16; 8:45 am]

BILLING CODE 3510-07-P